DEPARTMENT OF THE INTERIOR

Bureau of Land Management

[NM-010-5101-ER-G043-NMNM 106570]

Notice of Availability of the Draft Environmental Impact Statement for a Proposed Refined Petroleum Products Pipeline Right-of-Way Across Land in Lea, Eddy, Chaves, Lincoln, Guadalupe, Torrance, Sandoval, McKinley and San Juan Counties, NM; Ector and Winkler Counties, TX

AGENCY: Bureau of Land Management, Interior.

ACTION: Notice of Availability of Draft Environmental Impact Statement (DEIS).

SUMMARY: Pursuant to Section 102(2)(C) of the National Environmental Policy Act (NEPA) of 1969, a Draft Environmental Impact Statement (DEIS) has been prepared for the Bureau of Land Management, New Mexico State Director, under the administrative direction of the Albuquerque Field Office. The DEIS was prepared to analyze the impacts of issuing a Right-of-Way (ROW) for the conversion of an existing pipeline and construction of a new pipeline and above ground structures for the transportation of refined petroleum products across public lands in New Mexico and Texas. The proposed pipeline will cross land managed by BLM, the National Forest System, the State, as well as private lands. This notice initiates the public review process for the DEIS.

DATES: Written comments on the DEIS will be accepted for 45 days following the date the Environmental Protection Agency publishes the Notice of Availability in the Federal Register. Future meetings or hearings and any other public involvement activities will be announced at least 15 days in advance through public notices, media news releases, the NM BLM Web site (http://www.nm.blm.gov), and/or mailings. Written and oral comments will be accepted at public meetings.

ADDRESSES: Written comments should be addressed to NMPP Project Manager, Bureau of Land Management, Albuquerque Field Office, 435 Montano Road, NE, Albuquerque, NM 87107-4935. Comments, including names and street addresses of respondents, will be available for public review at the BLM Albuquerque Field Office and will be subject to disclosure under the Freedom of Information Act (FOIA). They may be published as part of the final EIS and other related documents. Individual respondents may request confidentiality. If you wish to withhold your name or street address from public review or from disclosure under the FOIA, you must state this definitively at the beginning of your written comments. Such requests will be honored to the extent allowed by law. All submissions from organizations and businesses and from individuals identifying themselves as representatives or officials of organizations or businesses will be available for public inspection in their entirety. Copies of the DEIS are available for review at the following repositories: Albuquerque City Library; Government Public Dept., UNM Library; Aztec Public Library; Carlsbad Public Library; Cuba Public Library; Edgewood Community Library; Farmington Public Library; Roswell Public Library; and Woolworth Community Library (Odessa, TX). Copies are also available at the following BLM Offices: Albuquerque, Field Office, 435 Montano Road NE, Albuquerque, NM 87107-4935; Roswell Field Office, 2909 West Second Street, Roswell NM 88201-2019; Farmington Field Office, 1235 La Plata Highway, Farmington, NM 87401; Carlsbad Field Office, 620 E. Greene St. Carlsbad, NM 88220-6292; New Mexico State Office, 1474 Rodeo Road, Santa Fe, NM 87505. The DEIS is also accessible at BLM's Web site http://www.nm.blm.gov.

FOR FURTHER INFORMATION: Please contact Joseph Jaramillo, (505) 761-8700, Joe_Jaramillo@blm.gov

SUPPLEMENTARY INFORMATION: Shell Pipeline Company LP (Shell) is the successor-in-interest to Equilon Pipeline Company LLC, the project proponent listed in the Notice of Intent to prepare an EIS published in the Federal Register on December 27, 2001. Shell filed a ROW application with BLM to convert an existing 406-mile pipeline and to construct approximately 93 miles of new pipeline to carry refined petroleum products, such as gasoline, diesel, and aviation fuel, from Odessa, Texas to Bloomfield, New Mexico.

Shell's existing 406-mile, 16-inch pipeline was formerly used to carry crude oil from Bisti, New Mexico to Jal, New Mexico. Shell intends to extend the length of this pipeline, reverse its direction of flow, and convert it to refined products service. The approximately 93 miles of new pipeline will be constructed in two segments: (1) A segment from Odessa to Jal of approximately 60 miles and (2) a Bisti to Bloomfield segment of approximately 33 miles. Twenty miles of the Bisti to Bloomfield segment will be located within an existing utility corridor. Thirteen miles of new pipeline would extend beyond the established corridor.

In addition to the new pipeline segments, a number of new facilities will be constructed, including a new truck loading terminal in Moriarty, New Mexico; new block and check valves; new pump stations; new pressure control stations; a new metering station at the terminus of the pipeline at Bloomfield; and other equipment at the pump stations and along the pipeline, such as meters, launchers and receivers, cathodic protection systems, and aerial markers. The project will require approximately 700 worksites for construction and maintenance activities along the existing pipeline, construction of the new pipeline segments, and construction of the new facilities required for the operation of the pipeline.

The BLM considered issues and concerns identified during the scoping process in the preparation of the DEIS. These issues can be broadly categorized as issues related to the protection of public safety, water quality, threatened and endangered species and the human environment. The DEIS analyzes the proposed action, a no-action alternative, and three action alternatives, namely pipeline replacement in sensitive areas, pipeline reroute in sensitive areas, and the proposed action with enhanced mitigation. The pipeline replacement alternative was developed to address public concerns about the existing pipeline's integrity and the potential effects of leaks on groundwater resources. It would involve the installation of new pipe in sensitive areas parallel to the existing pipe within the existing ROW. The existing pipe in those areas would be abandoned in place. Under the pipeline reroute alternative, portions of the existing pipeline would be relocated to less developed areas to reduce the risk to public safety. The new route would reduce the number of residences in close proximity to the pipeline and would minimize new disturbance by utilizing other existing ROW corridors as much as possible.

In the proposed action with enhanced mitigation alternative, the BLM identifies several additional mitigation measures to address the protection of public safety, water quality, threatened and endangered species and the human environment.

The purpose of the DEIS is to disclose to the public and agency decision makers the environmental impacts of constructing and operating the proposed project. If the project is approved, the BLM, as lead agency, would sign the necessary Record of Decision (ROD) for the issuance of a single ROW under the Mineral Leasing Act, which would consolidate and replace the eleven ROW grants that currently authorize the existing pipeline and would authorize the additional project features described above occurring on public lands.

Dated: December 12, 2002.
Richard A. Whitley,
Acting State Director.

[FR Doc. 03-8078 Filed 4-2-03; 8:45 am]

BILLING CODE 4310-AG-P